DEPARTMENT OF ENERGY

Orders Granting Authority To Import and Export Natural Gas, and To Export Liquefied Natural Gas During December 2016

| FE Docket Nos.
TAQA North | 16-156-NG
Maritimes NG Supply Limited Partnership | 16-181-NG
Sprague Operating Resources LLC | 16-177-NG
Montana-Dakota Utilities Company | 16-165-NG
Southern LNG Company, L.L.C | 12-100-LNG
Freeport LNG Expansion, L.P., FLNG Liquefaction, LLC, FLNG Liquefaction 2, LLC & FLNG Liquefaction 3, LLC | 16-108-LNG
Comision Federal de Electricidad | 16-140-NG

AGENCY: Office of Fossil Energy, Department of Energy.

ACTION: Notice of orders.

SUMMARY: The Office of Fossil Energy (FE) of the Department of Energy gives notice that during December 2016, it issued orders granting authority to import and export natural gas, and to export liquefied natural gas (LNG). These orders are summarized in the attached appendix and may be found on the FE Web site at http://energy.gov/fe/listing-doefe-authorizationsorders-issued-2016.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on January 24, 2017.
John A. Anderson,
Director, Office of Regulation and International Engagement, Office of Oil and Natural Gas.

Appendix

DOE/FE Orders Granting Import/Export Authorizations
3952 | 12/01/16 | 16-156-NG | TAQA North | Order 3952 granting blanket authority to import natural gas from Canada.
3953 | 12/01/16 | 16-181-NG | Maritimes NG Supply Limited Partnership | Order 3953 granting blanket authority to import/export natural gas from/to Canada.
3954 | 12/01/16 | 16-177-NG | Sprague Operating Resources LLC | Order 3954 granting blanket authority to import natural gas from Canada.
3955 | 12/01/16 | 16-165-NG | Montana-Dakota Utilities Company | Order 3955 granting blanket authority to import natural gas from Canada.
3956 | 12/16/16 | 12-100-LNG | Southern LNG Company, L.L.C | Opinion and Order 3956 Long-term Multi-contract authority to export LNG by vessel from the Elba Island Terminal in Chatham County, Georgia, to Non-free Trade Agreement Nations.
3957 | 12/19/16 | 16-108-LNG | Freeport LNG Expansion, L.P., FLNG Liquefaction, LLC, FLNG Liquefaction 2, LLC & FLNG Liquefaction 3, LLC | Opinion and Order 3957 granting Long-term Multi-contract authority to export LNG by vessel from the Freeport LNG on Quintana Island, Texas, to Non-free Trade Agreement Nations; and also Record of Decision.
3958 | 12/13/16 | 16-140-NG | Comision Federal de Electricidad | Order 3958 granting blanket authority to import/export natural gas from/to Mexico.

[FR Doc. 2017-02575 Filed 2-7-17; 8:45 am]

BILLING CODE 6450-01-P